SURFACE TRANSPORTATION BOARD

[Docket No. FD 36766]

East Ohio Valley Railway LLC—Lease and Operation Exemption Containing Interchange Commitment—Norfolk Southern Railway Company

East Ohio Valley Railway LLC (EOVR), a Class III rail carrier, has filed a verified notice of exemption pursuant to 49 CFR 1150.41 to lease from Norfolk Southern Railway (NSR) and operate a line of railroad with two segments: (1) approximately 16.5 miles between RO 44.0 near Bellaire, Ohio, and RO 60.5 near Powhatan Point, Ohio; and (2) 1.78 miles of rail between OP 0.0 and OP 1.78 near Powhatan Point (collectively, the Line).

According to the verified notice, EOVR and NSR have reached an agreement pursuant to which EOVR will lease and operate the Line. EOVR states that the Line does not physically connect to any other carrier and NSR will be the exclusive interchange partner for EOVR.

EOVR certifies that its projected annual revenues from this transaction will not result in its becoming a Class I or Class II rail carrier and will not exceed $5 million. EOVR also certifies that the agreement with NSR contains a provision that, through a per-car penalty, would limit EOVR's ability to interchange with a third-party carrier if that ever became physically possible. EOVR has provided additional information regarding the interchange commitment, as required by 49 CFR 1150.43(h).¹

¹ EOVR filed a copy of the agreement under seal with the verified notice. See 49 CFR 1150.43(h)(1).

The transaction may be consummated on or after May 16, 2024, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than May 9, 2024.

All pleadings, referring to Docket No. FD 36766, must be filed with the Surface Transportation Board via e-filing on the Board's website or in writing addressed to 395 E Street SW, Washington, DC 20423-0001. In addition, a copy of each pleading must be served on EOVR's representative, William A. Mullins, Mullins Law Group, 2401 Pennsylvania Ave. NW, Suite 300, Washington, DC 20037.

According to EOVR, this action is categorically excluded from environmental review under 49 CFR 1105.6(c) and from historic preservation reporting requirements under 49 CFR 1105.8(b).

Board decisions and notices are available at www.stb.gov.

Decided: April 26, 2024.
By the Board, Mai T. Dinh, Director, Office of Proceedings.
Jeffrey Herzig,
Clearance Clerk.

[FR Doc. 2024-09577 Filed 5-1-24; 8:45 am]

BILLING CODE 4915-01-P